DEPARTMENT OF DEFENSE

Department of the Navy

Meeting of the Board of Advisors (BOA) to the President of the Naval War College (NWC) Subcommittee

AGENCY: Department of the Navy, DoD.

ACTION: Notice.

SUMMARY: The Department of Defense (DoD) is publishing this notice to announce that the following Federal Advisory Committee meeting of the President of the Naval War College Subcommittee Board of Advisors will be held. This meeting will be open to the public.

DATES: The meeting will be held on Thursday, April 4, 2019 from 8:00 a.m. to 4:30 p.m. and on Friday, April 5, 2019 from 8:30 a.m. to 11:00 a.m. Eastern Time Zone.

ADDRESSES: The meeting will be held at the U.S. Naval War College, 686 Cushing Road, Newport, RI.

FOR FURTHER INFORMATION CONTACT: Ms. Jaye Panza, Designated Federal Official, 1 University Circle, Code 00H, Monterey, CA, 93943-5001, telephone number 831-656-2514.

SUPPLEMENTARY INFORMATION: This meeting is being held under the provisions of the Federal Advisory Committee Act (FACA) of 1972 (5 U.S.C., Appendix, as amended), the Government in the Sunshine Act of 1976 (5 U.S.C. 552b, as amended), and 41 CFR 102-3.140 and 102-3.150. The purpose of the Board is to advise and assist the President, NWC, in educational and support areas, providing independent advice and recommendations on items such as, but not limited to, organizational management, curricula, methods of instruction, facilities, student and faculty morale, and other matters of interest.

The agenda for Thursday is as follows:

8:00 a.m.-8:15 a.m. Call to Order, Chairman Instructions

8:15 a.m.-11:45 a.m. Discussion with NWC President

11:45 a.m.-1:15 p.m. Meet with NWC Students

1:15 a.m.-1:30 p.m. Break

1:30 p.m.-2:45 p.m. Board Discussion

2:45 p.m.-3:45 p.m. Meet with NWC Faculty

3:45 p.m.-4:00 p.m. Annual FACA Board Member Ethics Training

4:00 p.m.-4:30 p.m. Board Business

4:30 p.m. Adjourn

The agenda for Friday is as follows:

8:30 a.m.-11:00 a.m. Round table discussion on Interest Items

11:00 a.m. Closing remarks, Meeting Adjourned

Individuals without a DoD Government Common Access Card require an escort at the meeting location. The meeting is accessible to persons with disabilities. For access, information, reasonable accommodation or special assistance requests please contact Dr. Thomas Gibbons at (401) 841-4008. Address requests for written statements for consideration at the committee meeting to Dr. Thomas Gibbons, U.S. Naval War College, 686 Cushing Road, Newport, RI 02841 by March 29, 2019.

(Authority: 5 U.S.C. 552b)

Dated: February 28, 2019.
M.S. Werner,
Commander, Judge Advocate General's Corps, U.S. Navy, Federal Register Liaison Officer.

[FR Doc. 2019-03896 Filed 3-4-19; 8:45 am]

BILLING CODE 3810-FF-P